DEPARTMENT OF DEFENSE

Office of the Secretary

Reserve Forces Policy Board; Notice of Federal Advisory Committee Meeting

AGENCY: Under Secretary of Defense for Personnel and Readiness (USD(P&R)), Department of Defense (DoD).

ACTION: Notice of Federal Advisory Committee meeting.

SUMMARY: The DoD is publishing this notice to announce the following Federal Advisory Committee meeting of the Reserve Forces Policy Board (RFPB) will occur.

DATES: The RFPB will hold an open meeting to the public on Wednesday, March 6, 2024 from 8:30 a.m. to 11 a.m.

ADDRESSES: The in-person meeting will be held at the RFPB office located at 5109 Leesburg Pike, Suite 501, Falls Church, Virginia 22041. Additionally, the meeting will be held via videoconference. Participant access information will be provided after registering. Pre-meeting registration is required. See guidance in SUPPLEMENTARY INFORMATION, “Meeting Accessibility.”

FOR FURTHER INFORMATION CONTACT: Eric Flowers, Designated Federal Officer (DFO) at eric.p.flowers2.civ@mail.mil or 703-697-1795. The mailing address is Reserve Forces Policy Board, 5109 Leesburg Pike, Suite 501, Falls Church, Virginia 22041. The most up-to-date changes to the meeting agenda can be found on the website: https://rfpb.defense.gov/.

SUPPLEMENTARY INFORMATION: This meeting is being held under the provisions of chapter 10 of title 5, United States Code (U.S.C.) (commonly known as the “Federal Advisory Committee Act” or “FACA”), 5 U.S.C. 552b (commonly known as the “Government in the Sunshine Act”), and title 41, Code of Federal Regulations (CFR), section 102-3.140 and section 102-3.155.

Due to circumstances beyond the control of the Designated Federal Officer, the Reserve Forces Policy Board was unable to provide public notification required by 41 CFR 102-3.150(a) concerning its March 6, 2024 meeting. Accordingly, the Advisory Committee Management Officer for the Department of Defense, pursuant to 41 CFR 102-3.150(b), waives the 15-calendar day notification requirement. Purpose of the Meeting: The purpose of the meeting is to obtain, review, and evaluate relevant information related to strategies, policies, and practices designed to improve and enhance the capabilities, efficiency, effectiveness, and accessibility of the Reserve Component (RC).

Agenda: The RFPB will hold an open meeting to the public from 8:30 a.m. to 11 a.m. on Wednesday, March 6, 2024. The RFPB will begin the meeting with opening remarks by Mr. Eric Flowers, the DFO and Major General John Hashem, United States Army, the RFPB's Military Executive. After the opening remarks, the RFPB Chairperson, the Honorable Lisa Disbrow, will provide introductory remarks and articulate her vision for the RFPB. After the Chairperson's comments, the RFPB will receive remarks from select members of the Joint Staff on the vitality of the RC in an era of Great Power Competition. Invited individuals are General Charles Q. Brown, Chairman of the Joint Chiefs of Staff and Senior Enlisted Advisor to the Chairman Troy Black. The morning meeting will conclude with two briefs from RFPB members Honorable Paul Stockton and Honorable Debra Wada. Honorable Stockton will deliver a presentation on RC issues and opportunities in Homeland Defense. Honorable Wada will provide a brief on RC issues and opportunities related to permeability. Honorable Disbrow will offer closing remarks and adjourn the meeting.

Meeting Accessibility: Pursuant to 5 U.S.C. 552b and 41 CFR 102-3.140 through 102-3.150, and subject to the availability of space, this meeting is open to the public from 8:30 a.m. to 11 a.m. on March 6, 2024. The meeting will be held in-person and via videoconference. The number of participants for the in-person session and videoconference is limited and is on a first-come basis. All members of the public who wish to attend the in-person session or participate in the videoconference must register by contacting the RFPB DFO, Eric Flowers, at eric.p.flowers2.civ@mail.mil or (703) 697-1795 no later than Friday, March 1, 2024 (by 5:00 p.m. Eastern Standard Time). Once registered, the web address and audio number will be provided to those members of the public planning to participate in the videoconference. For those members of the public who successfully register for the in-person session, the meeting will be held in the RFPB large conference room at the RFPB office. The RFPB office is located on the 5th floor, in suite 501 in the Skyline 6 office building located at 5109 Leesburg Pike, Falls Church, Virginia. Instructions for on-site parking will be provided after a member of the public successfully registers with the DFO to attend the in-person session.

Written Statements: Pursuant to 41 CFR 102-3.105(j) and section 10(a)(3) of the FACA, the public and interested parties may submit written statements to the RFPB at any time about its approved agenda or at any time on the RFPB's mission. Written statements should be submitted to the RFPB's DFO at the address or email listed in the FOR FURTHER INFORMATION CONTACT section. If statements pertain to a specific topic being discussed at the planned meeting, then these statements must be submitted no later than three (3) business days prior to the scheduled meeting date. Written statements received after this date may not be provided to or considered by the RFPB until its next scheduled meeting. The DFO will review all timely submitted written statements and provide copies to all the committee members before the meeting that is the subject of this notice. Please note that all submitted comments and public presentations will be treated as public documents and will be made available for public inspection, including, but not limited to, being posted on the RFPB's website.

Dated: February 23, 2024.
Aaron T. Siegel,
Alternate OSD Federal Register Liaison Officer, Department of Defense.

[FR Doc. 2024-04149 Filed 2-27-24; 8:45 am]

BILLING CODE 6001-FR-P